DEPARTMENT OF COMMERCE

National Oceanic and Atmospheric Administration

[I.D. 081902A]

Proposed Information Collection; Comment Request; Southeast Region Electronic Reporting Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 21, 2002.

ADDRESSES: Direct all written comments to Madeleine Clayton, Departmental Paperwork Clearance Officer, Department of Commerce, Room 6608, 14th and Constitution Avenue NW, Washington DC 20230 (or via the Internet at MClayton@doc.gov).

FOR FURTHER INFORMATION CONTACT: Requests for additional information or copies of the information collection instrument(s) and instructions should be directed to John Poffenberger, Southeast Fisheries Science Center, 75 Virginia Beach Drive, Miami, Florida 33149,(phone 305-361-4263).

SUPPLEMENTARY INFORMATION:

I. Abstract

This data collection activity is a one-time survey to collect information from persons and/or companies that have been issued a federal fisheries permit in the Southeast Region. The purpose of the survey is to collect on the availability and use of personal computers and whether these persons and/or companies would be willing to report electronically via the Internet. There are several methods that can be undertaken by the National Marine Fisheries Service to make reporting data more efficient through electronic reporting, but the availability of personal computers and their use is an important part of determining how best to provide this alternative reporting methodology.

II. Method of Collection

The Southeast Fisheries Science Center will conduct this survey through the mail. A short form has been developed that is to be filled out by the permit holder (usually the vessel owner or manager of the seafood processing company) and returned to the Center in a pre-addressed, postage-paid envelope.

III. Data

OMB Number: None.

Form Number: None.

Type of Review: Regular submission.

Affected Public: Business or other for-profit organizations (seafood dealers and fishermen).

Estimated Number of Respondents: 6,500.

Estimated Time Per Response: 5 minutes.

Estimated Total Annual Burden Hours: 540.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 16, 2002.
Gwellnar Banks,
Management Analyst, Office of the Chief Information Officer.

[FR Doc. 02-21458 Filed 8-21-02; 8:45 am]

BILLING CODE 3510-22-S